DEPARTMENT OF ENERGY

Federal Energy Regulatory Commission

Combined Notice of Filings #1

Take notice that the Commission received the following electric corporate filings:

Docket Numbers: EC15-174-000.

Applicants: Biofuels Washington, LLC.

Description: Application Under FPA Section 203 of Biofuels Washington, LLC with Privileged Exhibit I.

Filed Date: 7/22/15.

Accession Number: 20150722-5149.

Comments Due: 5 p.m. ET 8/12/15.

Take notice that the Commission received the following electric rate filings:

Docket Numbers: ER15-623-005.

Applicants: PJM Interconnection, L.L.C.

Description: Compliance filing: Errata to Compliance Filing submitted on 7/9/15 pursuant to the 6/9/15 Order to be effective 4/1/2015.

Filed Date: 7/22/15.

Accession Number: 20150722-5122.

Comments Due: 5 p.m. ET 8/3/15.

Docket Numbers: ER15-2240-000.

Applicants: Alabama Power Company.

Description: § 205(d) Rate Filing: Southern Power (Butler Solar) LGIA Amendment Filing to be effective 6/22/2015.

Filed Date: 7/22/15.

Accession Number: 20150722-5100.

Comments Due: 5 p.m. ET 8/12/15.

Docket Numbers: ER15-1727-001.

Applicants: Nevada Power Company.

Description: Compliance filing: OATT Revision to Schedule 7 07.23.15 to be effective 7/14/2015.

Filed Date: 7/23/15.

Accession Number: 20150723-5109.

Comments Due: 5 p.m. ET 8/13/15.

Docket Numbers: ER15-2241-000.

Applicants: MP2 Energy NJ LLC.

Description: Tariff Cancellation: Tariff Cancellation to be effective 7/23/2015.

Filed Date: 7/22/15.

Accession Number: 20150722-5113.

Comments Due: 5 p.m. ET 8/12/15.

Docket Numbers: ER15-2242-000.

Applicants: MP2 Energy IL LLC.

Description: Tariff Cancellation: Tariff Cancellation to be effective 7/23/2015.

Filed Date: 7/22/15.

Accession Number: 20150722-5115.

Comments Due: 5 p.m. ET 8/12/15.

Docket Numbers: ER15-2243-000.

Applicants: Silver State Solar Power South, LLC.

Description: Baseline eTariff Filing: Silver State Solar Power South, LLC MBR Application to be effective 9/15/2015.

Filed Date: 7/22/15.

Accession Number: 20150722-5124.

Comments Due: 5 p.m. ET 8/12/15.

Docket Numbers: ER15-2244-000.

Applicants: Pacific Gas and Electric Company.

Description: Baseline eTariff Filing: eTariff System Migration: Refile Existing Records from Tariff ID 1000 to 1100 to be effective 7/23/2015.

Filed Date: 7/23/15.

Accession Number: 20150723-5000.

Comments Due: 5 p.m. ET 8/13/15.

Docket Numbers: ER15-2245-000.

Applicants: Pacific Gas and Electric Company.

Description: Baseline eTariff Filing: eTariff System Migration: Refile Existing Records from Tariff ID 3000 to 3100 to be effective 7/23/2015.

Filed Date: 7/23/15.

Accession Number: 20150723-5001.

Comments Due: 5 p.m. ET 8/13/15.

Docket Numbers: ER15-2246-000.

Applicants: Pacific Gas and Electric Company.

Description: Baseline eTariff Filing: eTariff System Migration: Refile Existing Records from Tariff ID 2000 to 2100 to be effective 7/23/2015.

Filed Date: 7/23/15.

Accession Number: 20150723-5002.

Comments Due: 5 p.m. ET 8/13/15.

Docket Numbers: ER15-2246-001.

Applicants: Pacific Gas and Electric Company.

Description: Tariff Amendment: eTariff System Migration: Additional Records from Tariff ID 2000 to 2100 to be effective 7/23/2015.

Filed Date: 7/23/15.

Accession Number: 20150723-5004.

Comments Due: 5 p.m. ET 8/13/15.

Docket Numbers: ER15-2247-000.

Applicants: Southwest Power Pool, Inc.

Description: § 205(d) Rate Filing: 2207 WindFarm 66 LLC GIA Cancellation to be effective 6/30/2015.

Filed Date: 7/23/15.

Accession Number: 20150723-5021.

Comments Due: 5 p.m. ET 8/13/15.

Docket Numbers: ER15-2248-000.

Applicants: Southwest Power Pool, Inc.

Description: § 205(d) Rate Filing: 3054 Upstream Wind Energy LLC GIA to be effective 6/26/2015.

Filed Date: 7/23/15.

Accession Number: 20150723-5023.

Comments Due: 5 p.m. ET 8/13/15.

Docket Numbers: ER15-2249-000.

Applicants: Southern California Edison Company.

Description: § 205(d) Rate Filing: True-Up LGIA and Distribution Service Agmt Wellhead Power Delano LLC to be effective 9/22/2015.

Filed Date: 7/23/15.

Accession Number: 20150723-5057.

Comments Due: 5 p.m. ET 8/13/15.

Docket Numbers: ER15-2250-000.

Applicants: Public Service Company of Colorado.

Description: § 205(d) Rate Filing: 2015-7-23_PSC-WAPA-TIA-367-Exh C-0.1.0—Filing to be effective 9/21/2015.

Filed Date: 7/23/15.

Accession Number: 20150723-5064.

Comments Due: 5 p.m. ET 8/13/15.

Docket Numbers: ER15-2251-000.

Applicants: Midcontinent Independent System Operator, Inc.

Description: § 205(d) Rate Filing: 2015-07-23_SA 2821 ATC-SWLP Pole Removal and Replacement Agreement to be effective 9/21/2015.

Filed Date: 7/23/15.

Accession Number: 20150723-5073.

Comments Due: 5 p.m. ET 8/13/15.

Docket Numbers: ER15-2252-000.

Applicants: Otter Tail Power Company.

Description: § 205(d) Rate Filing: Big Stone South-Ellendale Construction Management Agreement to be effective 6/12/2015.

Filed Date: 7/23/15.

Accession Number: 20150723-5083.

Comments Due: 5 p.m. ET 8/13/15.

Docket Numbers: ER15-2253-000.

Applicants: PJM Interconnection, L.L.C., Baltimore Gas and Electric Company.

Description: § 205(d) Rate Filing: Exelon on BG&E behalf submits Clean-up Filing of OATT Attachment H-2 to be effective 2/2/2015.

Filed Date: 7/23/15.

Accession Number: 20150723-5107.

Comments Due: 5 p.m. ET 8/13/15.

Docket Numbers: ER15-2254-000.

Applicants: Scrubgrass Generating Company, L.P.

Description: Baseline eTariff Filing: Reactive Power Tariff Filing to be effective 9/1/2015.

Filed Date: 7/23/15.

Accession Number: 20150723-5110.

Comments Due: 5 p.m. ET 8/13/15.

Docket Numbers: ER15-2255-000.

Applicants: Armenia Mountain Wind, LLC.

Description: § 205(d) Rate Filing: Notice of Succession to be effective 7/24/2015.

Filed Date: 7/23/15.

Accession Number: 20150723-5129.

Comments Due: 5 p.m. ET 8/13/15.

Docket Numbers: ER15-2256-000.

Applicants: Midcontinent Independent System Operator, Inc.

Description: Compliance filing: 2015-07-23_Gas Day Order 809 Compliance Filing to be effective 11/5/2016.

Filed Date: 7/23/15.

Accession Number: 20150723-5132.

Comments Due: 5 p.m. ET 8/13/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2015.
Nathaniel J. Davis, Sr.,
Deputy Secretary.

[FR Doc. 2015-18568 Filed 7-28-15; 8:45 am]

BILLING CODE 6717-01-P